DEPARTMENT OF TRANSPORTATION

Federal Aviation Administration

FAA Approval of Noise Compatibility Program 14 CFR Part 150, Toledo Express Airport, Toledo, OH

AGENCY: Federal Aviation Administration, DOT.

ACTION: Notice.

SUMMARY: The Federal Aviation Administration (FAA) announces its findings on the noise compatibility program submitted by the Toledo-Lucas county Port Authority under the provisions of 49 U.S.C. (the Aviation Safety and Noise Abatement Act, hereinafter referred to as “the Act”) and 14 CFR part 150. These findings are made in recognition of the description of Federal and nonfederal responsibilities in Senate Report No. l96-52 (1980). On January 24, 2003 the FAA determined that the noise exposure maps submitted by the Toledo-Lucas County Port Authority under Part 150 were in compliance with applicable requirements. On, July 18, 2003 the FAA approved the Toledo Express Airport noise compatibility program. All of the recommendations of the program were approved.

DATES: The effective date of the FAA's approval of the Toledo Express Airport noise compatibility program is July 18, 2003.

FOR FURTHER INFORMATION CONTACT: Katherine Jones, Federal Aviation Administration, Great Lakes Region, Detroit Airports District Office, DET ADO-606, Metro Airport Center, 11677 S. Wayne Road, Ste. 107, Romulus, Michigan 48174, (734) 229-2958. Documents reflecting this FAA action may be reviewed at this same location.

SUPPLEMENTARY INFORMATION: This notice announces that the FAA has given its overall approval to the noise compatibility program for Toledo Express Airport, effective July 18, 2003.

Under Section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions of FAR Part 150;

b. Program measures are reasonably consistent with achieving the goals of reducing existing non-compatible land uses around the airport and preventing the introduction of additional non-compatible land uses;

c. Program measures would not create an undue burden on interstate or foreign commerce, unjustly discriminate against all types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator as prescribed by law.

Specific limitations with respect to FAA's approval of an airport noise compatibility program are delineated in FAR Part 150, § 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Detroit Airports District Office in Romulus, Michigan.

Toledo-Lucas County Port Authority submitted to the FAA on January 21, 2003 the noise exposure maps, descriptions, and other documentation produced during the noise compatibility planning study conducted from 1999 through 2002. The Toledo Express Airport noise exposure maps were determined by FAA to be in compliance with applicable requirements on January 24, 2003. Notice of this determination was published in the Federal Register on February 14, 2003.

The Toledo Express Airport study contains a proposed noise compatibility program comprised of actions designed for phased implementation by airport management and adjacent jurisdictions from the 2002 to the year 2007. It was requested that the FAA evaluate and approve this material as a noise compatibility program as described in Section 47504 of the Act. The FAA began its review of the program on January 24, 2003 and was required by provision of the Act to approve or disapprove the program within 180 days (other than the use of new flight procedures for noise control). Failure to approve or disapprove such program within the 180-day period shall be deemed to be an approval of such program.

The submitted program contained ten proposed actions for noise mitigation on and/or off the airport. The FAA completed its review and determined that the procedural and substantive requirements of the Act and FAR Part 150 have been satisfied. The overall program, therefore, was approved by the FAA effective July 18, 2003.

Outright approval was granted for all of the specific program elements. The approved measures were to Establish Runway 25 as preferred for departure by all aircraft, 24 hours per day; Establish Runway 7 as preferred for nighttime arrivals, 10 p.m. to 6:59 a.m.; Straight-in approaches to Runway 7/25 on final approach course beyond the outer marker; Runway heading departures from Runway 7/25 for aircraft to fly runway handing until 6 nautical miles from brake release; Install sound insulation improvements at Swanton Township Elementary School; Establish a noise program office; Establish a noise complaint system; Coordinate and communicate with key agencies; Monitor aircraft activity and evaluate the plan; and Update the plan on a regular basis, as needed.

These determinations are set forth in detail in a Record of Approval signed by the Associate Administrator for Airports on July 18, 2003. The Record of Approval, as well as other evaluation materials and the documents comprising the submittal, are available for review at the FAA office listed above and at the administrative offices of the Toledo-Lucas County Port Authority. The Record of Approval also will be available on-line at http://www.faa.gov/arp/environmental/14cfr150/index14.cfm.

Issued in Romulus, Michigan, July 21, 2003.
Irene R. Porter,
Manager, Detroit Airports District Office, Great Lakes Region.

[FR Doc. 03-21225 Filed 8-18-03; 8:45 am]

BILLING CODE 4910-13-M